DEPARTMENT OF HEALTH AND HUMAN SERVICES

Centers for Disease Control and Prevention

National Center for Chronic Disease Prevention and Health Promotion, Division of Reproductive Health, Program Services Development Branch, Centers for Disease Control and Prevention, (CDC) Announces the Following Meeting

Name: Pregnancy Risk Assessment Monitoring System (PRAMS) Pre-Application Meeting for Announcement Number 01010.

Objective of Meeting: Prepare prospective applicants for the new PRAMS Cooperative Agreement Announcement Number 01010 to be posted in the Federal Register approximately October 1, 2000. The new PRAMS Cooperative Agreement #01010 has additional components from the previously posted cooperative agreements #659 and #99070. Applicants can apply for core and/or enhanced PRAMS activities or a one time (point-in-time) survey. In this meeting, CDC will articulate the details of the changes and additions made in the Cooperative Agreement #01010 to prospective applicants. Applicants are strongly encouraged to attend the meeting.

Time and Date: 10 am to 5 pm, October 30, 2000.

Place: Holiday Inn Select, 130 Clairmont Ave., Decatur, GA 30030, 404-371-0204.

Other Options: Prospective applicants may opt to tele-conference if unable to travel to the meeting site. For further details regarding tele-conferencing for this meeting please contact: Shawna Ward, phone: 770-488-5619.

Contact Person for More Information: Mary Rogers, National Center for Chronic Disease Prevention and Health Promotion, Division of Reproductive Health, Program Services Development Branch, [mailing address] Centers for Disease Control and Prevention, Attn: Mary Rogers, MS-K22, 4770 Buford Hwy., N.E., Atlanta, Georgia 30341-3724, telephone 770-488-5220, e-mail MJR3@CDC.GOV.

The Director, Management Analysis and Services Office, has been delegated the authority to sign Federal Register Notices pertaining to announcements of meetings and other committee management activities, for both the Centers for Disease Control and Prevention and the Agency for Toxic Substances and Disease Registry.

Dated: September 20, 2000.
Carolyn J. Russell,
Director, Management Analysis and Services Office, Centers for Disease Control and Prevention.

[FR Doc. 00-24621 Filed 9-25-00; 8:45 am]

BILLING CODE 4163-18-P